DEPARTMENT OF HEALTH AND HUMAN SERVICES

Centers for Disease Control and Prevention

Board of Scientific Counselors, Coordinating Office for Terrorism Preparedness and Emergency Response

Correction: This notice was published in the Federal Register on July 7, 2008, Volume 73, Number 130, Page 38460. The times and dates for the aforementioned meeting have been changed to the following:

Times and Dates: 1 p.m.-4:45 p.m., August 5, 2008. 10:30 a.m.-3:30 p.m., August 6, 2008.

Contact Person for More Information: Barbara Ellis, Coordinating Office for Terrorism Preparedness and Emergency Response, CDC, 1600 Clifton Road, NE., Mailstop D44, Atlanta, GA 30333.Telephone: (404) 639-1528. E-mail: COTPER.BSC.Questions@cdc.gov. The Director, Management Analysis and Services Office, has been delegated the authority to sign Federal Register notices pertaining to announcements of meetings and other committee management activities, for both CDC and the Agency for Toxic Substances and Disease Registry.

Dated: July 23, 2008.
Elaine L. Baker,
Director, Management Analysis and Services Office, Centers for Disease Control and Prevention.

[FR Doc. E8-17417 Filed 7-29-08; 8:45 am]

BILLING CODE 4163-18-P